DEPARTMENT OF ENERGY

National Petroleum Council (NPC)

AGENCY: Office of Fossil Energy, Department of Energy.

ACTION: Notice of renewal.

SUMMARY: Pursuant to Section 14(a)(2)(A) of the Federal Advisory Committee Act, (Pub. L. 92-463), and in accordance with Title 41 of the Code of Federal Regulations, Section 102-3.65(a), and following consultation with the Committee Management Secretariat, General Services Administration, notice is hereby given that the National Petroleum Council (NPC) will be renewed for a two-year period beginning on January 10, 2014.

The Council will provide advice and recommendations to the Secretary of Energy on matters relating to oil and natural gas, or the oil and natural gas industry.

Additionally, the renewal of the NPC has been determined to be essential to the conduct of the Department of Energy's business and to be in the public interest in connection with the performance of duties imposed upon the Department of Energy, by law and agreement. The Council will continue to operate in accordance with the provisions of the Federal Advisory Committee Act, adhering to the rules and regulations in implementation of that Act.

FOR FURTHER INFORMATION CONTACT: Ms. Nancy Johnson at (202) 586-6458.

Issued at Washington DC, on January 10, 2014.
Carol A. Matthews,
Committee Management Officer.

[FR Doc. 2014-00625 Filed 1-14-14; 8:45 am]

BILLING CODE 6450-01-P